DEPARTMENT OF AGRICULTURE

Notice of Termination of Seven Discretionary Federal Advisory Committees

AGENCY: United States Department of Agriculture (USDA).

ACTION: Termination of Federal advisory committees.

SUMMARY: On February 19, 2025, the President issued the Executive Order (E.O.), “Commencing the Reduction of the Federal Bureaucracy,” which set forth the Administration's policy of reducing the size of the Federal Government in order to minimize waste, fraud, abuse, and inflation and to promote American freedom and innovation. The President's order directed the termination of several Federal advisory committees and ordered the identification of additional Federal Advisory Committees for termination.

FOR FURTHER INFORMATION CONTACT: Inquiries may be sent to, Cikena Reid, USDA Committee Management Officer, United States Department of Agriculture, 1400 Independence Avenue, Whitten Building, Suite 536-A, SW, Washington, DC 20250; cikena.reid@usda.gov, (202) 720-8351.

SUPPLEMENTARY INFORMATION: On February 19, 2025, the President issued Executive Order 14217, “Commencing the Reduction of the Federal Bureaucracy.” Consistent with the E.O., on February 20, 2025, the Secretary of Agriculture issued a Secretary's Memorandum 1078-002 “Elimination of Federal Advisory Committees within the Department of Agriculture.” The Secretary determined that the following Federal advisory committees should be terminated, as they were no longer necessary:

• Advisory Committee on Agriculture Statistics

• Advisory Committee on Universal Cotton Standards

• Fruit and Vegetable Industry Advisory Committee

• National Advisory Committee on Meat and Poultry Inspection

• National Advisory Committee on Microbiological Criteria for Foods

• National Wildlife Services Advisory Committee

• Northwest Forest Plan Area Advisory Committee

In consultations with the USDA Committee Management Officer, Committee Management Secretariat of the General Services Administration, and the Office of General Counsel, this determination is consistent with the Federal Advisory Committee Act (FACA) of 1972 (5 U.S.C. ch.10), as well as 41 CFR 102-3.55.

In a separate Secretary's Memorandum 1078-007 issued on April 21, 2025, “Restructuring of Federal Advisory Committees within the Department of Agriculture,” the following terminations have been paused until further notice:

• Agricultural Technical Advisory Committee for Trade in Animal and Animal Products

• Agricultural Technical Advisory Committee for Trade in Fruits and Vegetables

• Agricultural Technical Advisory Committee for Trade in Grains, Feed, Oilseeds, and Planting Seeds

• Agricultural Technical Advisory Committee for Trade in Processed Foods

• Agricultural Technical Advisory Committee for Trade in Sweeteners and Sweetener Products

• Agricultural Technical Advisory Committee for Trade in Tobacco, Cotton, Peanuts, and Hemp

• Black Hills National Forest Advisory Board

• General Conference Committee of the National Poultry Improvement Plan

Dated: May 12, 2025.
Cikena Reid,
USDA Committee Management Officer.

[FR Doc. 2025-08859 Filed 5-16-25; 8:45 am]

BILLING CODE 3410-01-P